DEPARTMENT OF JUSTICE

Antitrust Division

Notice Pursuant to The National Cooperative Research and Production Act of 1993—Terapics-Joint Venture Under ATP Award No. 70NANB7H7044

Notice is hereby given that, on October 29, 2007, pursuant to Section 6(a) of the National Cooperative Research and Production Act of 1993, 15 U.S.C. 4301 et. seq. (“the Act”), Terapics-Joint Venture under ATP Award No. 70NANB7H7044 has filed written notifications simultaneously with the Attorney General and the Federal Trade Commission disclosing (1) the identities of the parties and (2) the nature and objectives of the venture. The notifications were filed for the purpose of invoking the Act's provisions limiting the recovery of antitrust plaintiffs to actual damages under specified circumstances.

Pursuant to Section 6(b) of the Act, the identities of the parties are CyOptics Inc., Breinigsville, PA; and Kotura Inc., Monterey Park, CA. The nature and objectives of the venture are: to conduct joint research on Terabit Photonic Integrated Circuits (TERAPICS), the next generation of fiber optic components for very high speed interconnects.

The activities of this venture project will be partially funded by an award from the Advanced Technology Program, National Institute of Standards and Technology, U.S. Department of Commerce.

Patricia A. Brink,
Deputy Director of Operations, Antitrust Division.

[FR Doc. 08-753 Filed 2-19-08; 8:45 am]

BILLING CODE 4410-11-M